ENVIRONMENTAL PROTECTION AGENCY

40 CFR Part 81

[EPA-HQ-OAR-2012-0918; FRL- 9915-91-OAR]

EPA Responses to State and Tribal 2012 Primary Annual Fine Particle Designation Recommendations

AGENCY: Environmental Protection Agency.

ACTION: Notice of availability and public comment period.

SUMMARY: Notice is hereby given that the Environmental Protection Agency (EPA) has posted its responses to state and tribal designation recommendations for the 2012 primary annual fine particle (PM2.5) National Ambient Air Quality Standards (NAAQS) on the agency's Internet Web site. The EPA invites the public to review and provide input on its responses during the comment period specified in the DATES section. The EPA sent its responses directly to the states and tribes on or about August 19, 2014. These responses focus on designating as “nonattainment” certain areas of the country where air monitoring data from 2011-2013 indicate violations of the 2012 primary annual PM2.5 NAAQS. The EPA intends to make final designation determinations for the 2012 primary annual PM2.5 NAAQS for most areas of the country in December 2014. This notice also announces the EPA's decision to extend the designation period by up to 1 year to December 2015 for a limited number of areas for which insufficient information is currently available to promulgate designations.

DATES: Comments must be received on or before September 29, 2014. Please refer to SUPPLEMENTARY INFORMATION for additional information on the comment period.

ADDRESSES: Submit your comments, identified by Docket ID No. EPA-OAR-HQ-2012-0918, by one of the following methods:

• Federal eRulemaking Portal: http://www.regulations.gov. Follow the online instructions for submitting comments.

• Email: A-and-R-docket@epa.gov. Attention Docket ID No. EPA-HQ-OAR-2012-0918 in the subject line of the message.

• Fax: 202-566-9744. Attention Docket ID No. EPA-HQ-OAR-2012-0918.

• Mail: Environmental Protection Agency, EPA Docket Center (EPA/DC), Mail Code 28221T, Attention Docket ID No. EPA-HQ-OAR-2012-0918, 1200 Pennsylvania Ave. NW., Washington, DC 20460.

• Hand/Courier Delivery: EPA Docket Center, Room 3334, EPA WJC West Building, 1301 Constitution Avenue NW., Washington, DC 20004. Such deliveries are only accepted during the Docket's normal hours of operation, and special arrangements should be made for deliveries of boxed information.

Instructions: Direct your comments to Docket ID No. EPA-HQ-OAR-2012-0918. The EPA's policy is that all comments received will be included in the public docket without change and may be made available online at www.regulations.gov, including any personal information provided, unless the comment includes information claimed to be confidential business information or other information whose disclosure is restricted by statute. Do not submit information that you consider to be confidential business information or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA is unable to read your comment and cannot contact you for clarification due to technical difficulties, the EPA may not be able to consider your comment. Electronic files should avoid the use of special characters, any form of encryption, and be free of any defects or viruses. For additional information about the EPA's public docket, visit the EPA Docket Center homepage at http://www.epa.gov/epahome/dockets.htm. For additional instructions on submitting comments, go to Section II of the SUPPLEMENTARY INFORMATION section of this document.

Docket: All documents in the docket are listed in the www.regulations.gov index. Although listed in the index, some information is not publicly available, i.e., confidential business information or other information whose disclosure is restricted by statute. Certain other material, such as copyrighted material, is not placed on the Internet and will be publicly available only in hard copy form. Publicly available docket materials are available either electronically in www.regulations.gov or in hard copy at the EPA Docket Center, Room 3334, EPA WJC West Building, 1301 Constitution Avenue NW., Washington, DC. The Public Reading Room is open from 8:30 a.m. to 4:30 p.m., Monday through Friday, excluding legal holidays. The telephone number for the Public Reading Room is 202-566-1744, and the telephone number for the Air Docket is 202-566-1742.

FOR FURTHER INFORMATION CONTACT: For general questions concerning this action, please contact Beth Palma, U.S. EPA, Office of Air Quality Planning and Standards, Air Quality Planning Division, C539-04, Research Triangle Park, NC 27711, telephone 919-541-5432, email at palma.elizabeth@epa.gov. For questions about areas in EPA Region 1, please contact Alison Simcox, U.S. EPA, telephone 617-918-1684, email at simcox.alison@epa.gov. For questions about areas in EPA Region 2, please contact Kenneth Fradkin, U.S. EPA, telephone 212-637-3702, email at fradkin.kenneth@epa.gov. For questions about areas in EPA Region 3, please contact Maria Pino, U.S. EPA, telephone 215-814-2181, email at pino.maria@epa.gov. For questions about areas in EPA Region 4, please contact Joel Huey, U.S. EPA, telephone 404-562-9104, email at huey.joel@epa.gov. For questions about areas in EPA Region 5, please contact Carolyn Persoon, U.S. EPA, telephone 312-353-8290, email at persoon.carolyn@epa.gov. For questions about areas in EPA Region 6, please contact John Walser, U.S. EPA, telephone 214-665-7128, email at walser.john@epa.gov. For questions about areas in EPA Region 7, please contact Andy Hawkins, U.S. EPA, telephone 913-551-7179, email at hawkins.andy@epa.gov. For questions about areas in EPA Region 8, please contact Crystal Ostigaard, U.S. EPA, telephone 303-312-6602, email at ostigaard.crystal@epa.gov. For questions about areas in EPA Region 9, please contact John J. Kelly, U.S. EPA, telephone 415-947-4151, email at kelly.johnj@epa.gov. For questions about areas in EPA Region 10, please contact Justin Spenillo, U.S. EPA, telephone 206-553-6125, email at spenillo.justin@epa.gov.

SUPPLEMENTARY INFORMATION:

I. Background and Purpose

On December 14, 2012, the EPA revised the primary annual PM2.5 NAAQS to provide increased protection of public health and welfare from fine particle pollution (78 FR 3086; January 15, 2013). In that action, the EPA revised the primary annual PM2.5 standard, strengthening it from 15.0 micrograms per cubic meter (μg/m³) to 12.0 μg/m³, which is attained when the 3-year average of the annual arithmetic means does not exceed 12.0 μg/m³.

The process for designating areas following promulgation of a new or revised NAAQS is contained in Clean Air Act (CAA) section 107(d), 42 U.S.C. 7407(d). Following the promulgation of a new or revised NAAQS, each governor or tribal leader has an opportunity to recommend air quality designations, including the appropriate boundaries for nonattainment areas, to the EPA. The EPA considers these recommendations as part of its duty to promulgate the formal area designations and boundaries for the new or revised NAAQS. By no later than 120 days prior to promulgating designations, the EPA is required to notify states and tribes of any intended modification to an area designation or boundary recommendation that the EPA deems necessary.

On or about August 19, 2014, the EPA notified states and tribes of its intended area designations for the 2012 primary annual PM2.5 NAAQS. The EPA based its intended 2012 primary annual PM2.5 NAAQS area designations on an evaluation of complete, certified, and quality-assured monitored air quality data for 2011-2013, including an evaluation of exceptional event claims.¹ States and tribes now have an opportunity to demonstrate why they believe an intended modification by the EPA may be inappropriate. The EPA encourages states and tribes to provide comments and additional information for the EPA to consider before finalizing designations in December 2014.

¹ Exceptional event claims influenced the EPA's intended designations for areas in the state of Hawaii and for Lemhi County, Idaho.

The purpose of this notice is to solicit public comments from interested parties other than states and tribes regarding the EPA's recent responses to the state and tribal designation recommendations for the 2012 primary annual PM2.5 NAAQS. These responses, and their supporting technical analyses, can be found on the EPA's Internet Web site at http://www.epa.gov/airquality/particlepollution/designations/2012standards/index.htm and also in the public docket for the 2012 primary annual PM2.5 designations at www.regulations.gov, Docket ID No. EPA-HQ-OAR-2012-0918. The EPA invites public comment on its responses to states and tribes during the 30-day comment period provided by this notice. Although under CAA section 107(d) the EPA is not required to seek public comment during this designation process, the EPA is electing to do so for the 2012 primary annual PM2.5 NAAQS to gather additional information for consideration before promulgating final designations. Due to the statutory timeframe for promulgating designations set out in CAA section 107(d), the EPA will not be able to consider any public comments submitted after September 29, 2014. This notice and opportunity for public comment does not affect any rights or obligations of the EPA, or any state or tribe, which might otherwise exist pursuant to CAA section 107(d).

Please refer to the ADDRESSES section above in this document for specific instructions on submitting comments and locating relevant public documents.

The EPA believes that the boundaries for each nonattainment area should be evaluated and determined on a case-by-case basis considering the specific facts and circumstances unique to the area. CAA section 107(d) requires that the EPA designate as nonattainment not only any area that is violating the 2012 primary annual PM2.5 NAAQS, but also any nearby areas that contribute to the violation in the violating area. The EPA is particularly interested in receiving comments, supported by relevant information, if you believe that a specific geographic area that the EPA is proposing to identify as a nonattainment area should not be categorized by the section 107(d) criteria as nonattainment, or if you believe that a specific nearby area not proposed by the EPA to be identified as contributing to a nonattainment area should in fact be categorized as contributing to nonattainment using the section 107(d) criteria. Please be as specific as possible in supporting your views.

• Describe any assumptions and provide any technical information and/or data that you used.

• Provide specific examples to illustrate your concerns, and suggest alternatives.

• Explain your views as clearly as possible.

• Make sure to provide your input by the comment period deadline identified in this notice.

To date, the EPA has identified 14 areas that do not meet the 2012 primary annual PM2.5 NAAQS, and intends to designate these areas as nonattainment— http://www.epa.gov/airquality/particlepollution/designations/2012standards/docs/20140819nonattainment.pdf. The EPA has also identified eight areas with ambient air quality monitoring sites that lack complete data for the relevant period— http://www.epa.gov/airquality/particlepollution/designations/2012standards/docs/20140819unclassifiablelist.pdf. Accordingly, because the EPA cannot determine based on available information whether or not these areas are meeting or not meeting the NAAQS, the EPA intends to designate these areas as “unclassifiable.” The EPA intends to designate all but five of the remaining areas of the country as “unclassifiable/attainment.” For the five remaining areas, which are located in the state of Georgia and 2 neighboring counties in the bordering states of Alabama and South Carolina, relevant information, including air quality monitoring data, are insufficient to promulgate a designation at this time— http://www.epa.gov/airquality/particlepollution/designations/2012standards/docs/20140819deferredlist.pdf. For these areas the EPA believes that an additional year of air quality monitoring data will result in complete and valid data sufficient to inform a designation determination. Accordingly, the EPA is extending the designation determination period for these five areas for up to 1 year under the authority of CAA section 107(d)(1)(B)(i). The EPA will assess supplementary data for these areas before promulgating initial designations by the statutory deadline of December 14, 2015.

II. Instructions for Submitting Public Comments

A. What should I consider as I prepare my comments for the EPA?

1. Submitting Confidential Business Information. Do not submit this information to the EPA through www.regulations.gov or email. Clearly mark the part or all of the information that you claim to be confidential business information. For confidential business information in a disk or CD-ROM that you mail to the EPA, mark the outside of the disk or CD-ROM as confidential business information and then identify electronically within the disk or CD-ROM the specific information that is claimed as confidential business information. In addition to one complete version of the comment that includes information claimed as confidential business information, a copy of the comment that does not contain the information claimed as confidential business information must be submitted for inclusion in the public docket. Information so marked will not be disclosed except in accordance with procedures set forth in 40 CFR part 2. Send or deliver information identified as confidential business information only to the following address: Roberto Morales, U.S. EPA, Office of Air Quality Planning and Standards, Mail Code C404-02, Research Triangle Park, NC 27711, telephone 919-541-0880, email at morales.roberto@epa.gov, Attention Docket ID No. EPA-HQ-OAR-2012-0918.

2. Tips for Preparing Your Comments. When submitting comments, remember to:

• Identify the docket number and other identifying information (subject heading, Federal Register date and page number).

• Follow directions—the agency may ask you to respond to specific questions or organize comments by referencing a Code of Federal Regulations part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified in the DATES section above.

III. Internet Web Site for Rulemaking Information

The EPA has also established a Web site for this rulemaking at http://www.epa.gov/airquality/particlepollution/designations/2012standards/index.htm. The Web site includes the state and tribal designation recommendations, information supporting the EPA's preliminary designation decisions, as well as the rulemaking actions and other related information that the public may find useful.

Dated: August 20, 2014.
Mary Henigin,
Acting Director, Office of Air Quality Planning and Standards.

[FR Doc. 2014-20641 Filed 8-28-14; 8:45 am]

BILLING CODE 6560-50-P